DEPARTMENT OF ENERGY

Federal Energy Regulatory Commission

Combined Notice of Filings #1

April 25, 2008.

Take notice that the Commission has received the following Natural Gas Pipeline Rate and Refund Report filings:

Docket Numbers: RP96-383-085.

Applicants: Dominion Transmission, Inc.

Description: Dominion Transmission, Inc. submits Tenth Revised Sheet 1405 effective April 18, 2008.

Filed Date: 04/17/2008.

Accession Number: 20080418-0217.

Comment Date: 5 p.m. Eastern Time on Wednesday, April 30, 2008.

Docket Numbers: RP08-200-001.

Applicants: Guardian Pipeline, L.L.C.

Description: Guardian Pipeline, LLC submits executed copies of the nine service agreements.

Filed Date: 04/23/2008.

Accession Number: 20080424-0107.

Comment Date: 5 p.m. Eastern Time on Monday, May 5, 2008.

Docket Numbers: RP08-320-000.

Applicants: Northern Natural Gas Company.

Description: Petition of Northern Natural Gas Company for limited waiver of tariff provisions.

Filed Date: 04/23/2008.

Accession Number: 20080424-0007.

Comment Date: 5 p.m. Eastern Time on Monday, May 5, 2008.

Docket Numbers: RP08-321-000.

Applicants: Northern Natural Gas Company.

Description: Northern Natural Gas Company submits 1 Revised Tenth Revised Sheet 135 et al. to FERC Gas Tariff, Fifth Revised Volume 1, to become effective 5/24/08.

Filed Date: 04/23/2008.

Accession Number: 20080424-0008.

Comment Date: 5 p.m. Eastern Time on Monday, May 5, 2008.

Docket Numbers: RP08-322-000.

Applicants: Canyon Creek Compression Company.

Description: Canyon Creek Compression Company submits Third Revised Sheet 0 et al. to FERC Gas Tariff, Third Revised Volume 1, to become effective 5/19/08.

Filed Date: 04/24/2008.

Accession Number: 20080425-0004.

Comment Date: 5 p.m. Eastern Time on Tuesday, May 6, 2008.

Docket Numbers: RP08-323-000.

Applicants: Horizon Pipeline Company, L.L.C.

Description: Horizon Pipeline Company, LLC submits First Revised Sheet 0 and First Revised Sheet 221 to FERC Gas Tariff, Original Volume 1, to become effective 5/19/08.

Filed Date: 04/24/2008.

Accession Number: 20080425-0002.

Comment Date: 5 p.m. Eastern Time on Tuesday, May 06, 2008.

Docket Numbers: RP08-324-000.

Applicants: Kinder Morgan Illinois Pipeline LLC.

Description: Kinder Morgan Illinois Pipeline LLC submits First Revised Sheet 0 et al. to their FERC Gas Tariff, Original Volume 1, to become effective 5/19/08.

Filed Date: 04/24/2008.

Accession Number: 20080425-0003.

Comment Date: 5 p.m. Eastern Time on Tuesday, May 6, 2008.

Docket Numbers: RP08-325-000.

Applicants: Trailblazer Pipeline Company LLC.

Description: Trailblazer Pipeline Company LLC submits First Revised Sheet 0 and First Revised Sheet 241 to FERC Gas Tariff, Fourth Revised Volume 1, to become effective 5/19/08.

Filed Date: 04/24/2008.

Accession Number: 20080425-0001.

Comment Date: 5 p.m. Eastern Time on Tuesday, May 6, 2008.

Docket Numbers: CP07-207-001.

Applicants: Colorado Interstate Gas Company.

Description: Colorado Interstate Gas Company submits Fifteenth Revised sheet No. 7, et al., to the First Revised Volume No. 1, effective May 5, 2008.

Filed Date: 04/21/2008.

Accession Number: 20080424-0226.

Comment Date: 5 p.m. Eastern Time on Friday, May 9, 2008.

Docket Numbers: CP07-406-002.

Applicants: Monroe Gas Storage Company, L.P.

Description: Monroe Gas Storage Company, L.P. submits application for limited amendment of the certificate of public convenience and necessity issued 12/21/07 for approval of the First Revised Pro Forma FERC Gas Tariff.

Filed Date: 04/15/2008.

Accession Number: 20080421-0012.

Comment Date: 5 p.m. Eastern Time Friday, May 9, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-9542 Filed 4-30-08; 8:45 am]

BILLING CODE 6717-01-P